DEPARTMENT OF EDUCATION

National Commission on Mathematics and Science Teaching for the 21st Century; Meeting

AGENCY: National Commission on Mathematics and Science Teaching for the 21st Century, Department of Education.

ACTION: Notice of meeting.

SUMMARY: This notice sets forth the schedule and proposed agenda of a forthcoming meeting of the National Commission on Mathematics and Science Teaching for the 21st Century (Commission). This notice also describes the functions of the Commission. Notice of this meeting is required under Section 10(a)(2) of the Federal Advisory Committee Act and is intended to notify the general public of their opportunity to attend.

DATE AND TIME: Monday, March 6, 2000, from 3:30 p.m. to approximately 6:30 p.m. and Tuesday, March 7 from 8:30 a.m. to adjournment at approximately 4:30 p.m.

ADDRESSES: J.W. Marriott Hotel, Capitol Ballroom, 1331 Pennsylvania Avenue, NW, Washington, DC 20004, telephone: (202) 393-2000, toll-free (800) 228-9290, fax: (202) 626-6991.

FOR FURTHER INFORMATION CONTACT: Dr. Linda P. Rosen, Executive Director, The National Commission on Mathematics and Science Teaching for the 21st Century, U.S. Department of Education, Room 6W252, 400 Maryland Avenue, SW, Washington, DC 20202, telephone: (202) 260-8229, fax: (202) 260-7216.

SUPPLEMENTARY INFORMATION: The National Commission on Mathematics and Science Teaching for the 21st Century was established by the Secretary of Education and is governed by the provisions of the Federal Advisory Committee Act (FACA) (P.L. 92-463, as amended; 5 U.S.C.A. Appendix 2). The Commission was established to address the pressing need to significantly raise student achievement in mathematics and science by focusing on the quality of mathematics and science instruction in K-12 classrooms nationwide. The Commission will develop a set of recommendations with a corresponding, multifaceted action strategy to improve the quality of teaching in mathematics and science.

The meeting of the Commission is open to the public. On the afternoon of March 6th, the Commission will explore potential technology recommendations and review a draft of initial chapters of their report. Commission members will work in breakout groups to discuss the draft and then convey their comments in a plenary session.

On March 7th, the meeting will explore potential recommendations for the recruitment, induction, and professional development of teachers of mathematics and science. The day will start with brief presentations on these three topics—recruitment, induction, and professional development. The rest of the morning will be spent in breakout groups. After lunch, the groups will report back to the entire Commission and discuss potential recommendations with commentary from several invited experts.

An agenda will be posted on the Internet at http://www.ed.gov/americacounts/glenn/toc.html on or before February 28, 2000.

On March 6 from 8:30 a.m. to approximately 2:30 p.m. Commission members are invited to attend a meeting organized by the Association for Computing Machinery (ACM) on how technology can significantly impact K-12 math and science teaching and learning. The ACM presentations and hands-on demonstrations are open to the public and will be held in the Capitol Ballroom of the J.W. Marriott.

Space for the meeting of the National Commission on Mathematics and Science Teaching for the 21st Century may be limited and you are encouraged to register if you plan to attend. You may register through the Internet at America_Counts@ed.gov or Jamila_Rattler@ed.gov. Please include your name, title, affiliation, complete address (including e-mail, if available), telephone and fax numbers. If you are unable to register through the Internet, you may fax your registration information to The National Commission on Mathematics and Science Teaching for the 21st Century at (202) 260-7216 or mail to The National Commission on Mathematics and Science Teaching for the 21st Century, U.S. Department of Education, Room 6W252, 400 Maryland Avenue, SW, Washington, DC 20202. The registration deadline is March 1, 2000. Any individual who will need accommodations for a disability in order to attend the meeting (i.e., interpreting services, assistive listening devices, materials in alternative format) should notify Jamila Rattler at (202) 260-8229 by no later than February 25, 2000. We will attempt to meet requests after this date, but cannot guarantee availability of the requested accommodation. The meeting site is accessible to individuals with disabilities.

Records will be kept of all Commission proceedings, and will be available for public inspection at The National Commission on Mathematics and Science Teaching for the 21st Century, 400 Maryland Avenue, SW, Room 6W252 from the hours of 8:30 a.m. to 5:00 p.m. weekdays, except Federal holidays.

Dated: February 8, 2000.
Frank S. Holleman III,
Deputy Secretary.

[FR Doc. 00-3241 Filed 2-10-00; 8:45 am]

BILLING CODE 4000-04-M